DEPARTMENT OF TRANSPORTATION

Pipeline and Hazardous Materials Safety Administration

Actions on Special Permit Applications

AGENCY: Office of Hazardous Materials Safety, Pipeline And Hazardous Materials Safety Administration (PHMSA), DOT.

ACTION: Notice of actions on Special Permit Applications.

SUMMARY: In accordance with the procedures governing the application for, and the processing of, special permits from the Department of Transportation's Hazardous Material Regulations (49 CFR part 107, Subpart B), notice is hereby given of the actions on special permits applications in (June to June 2012). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on July 9, 2012.
Donald Burger,
Chief, Special Permits and Approvals Branch.

S.P. No. | Applicant | Regulation(s) | Nature of special permit thereof
MODIFICATION SPECIAL PERMIT GRANTED
14447-M | PCS Nitrogen Ohio, L.P., Lima, OH | 49 CFR 177.834(i) and 172.302(c) | To modify the special permit to authorize the addition of three new Class 8 and one new Division 5.1 hazardous material, and to extend authorization to all DOT specification cargo tanks.
13424-M | Taminco Higher Amines, Inc. (Former Grantee: Air Products & Chemicals, Inc.), St. Gabriel, LA | 49 CFR 177.834(i)(3) | To modify the special permit to authorize an additional Class 8 hazardous material.
NEW SPECIAL PERMIT GRANTED
15566-N | Lake and Peninsula Airlines, Inc., Port Alsworth, AK | 49 CFR 173.302(f)(3) and (f)(4) | To authorize the transportation in commerce of certain cylinders of compressed oxygen, when no other practical means of transportation exist, without their outer packaging being capable of passing the Flame Penetration and Resistance Test and the Thermal Resistance Test. (modes 4, 5)
15624-N | Desert Air Transport, Anchorage, AK | 49 CFR 172.101 Column (9B) | To authorize the transportation in commerce of certain Class 1 explosive materials which are forbidden for transportation by air, to be transported by cargo aircraft within the State of Alaska when other means of transportation are impracticable or not available. (mode 4)
EMERGENCY SPECIAL PERMIT GRANTED
14526-M | Kidde Aerospace, Wilson, NC | 49 CFR 173.302a | To reissue the special permit originally issued on an emergency basis for the transportation in commerce of a Division 2.2 compressed gas in a non-DOT specification cylinder similar to a DOT-39 for transportation by motor vehicle. Renewal done also (modes 1, 3)
14641-M | Conocophillips Alaska, Inc., Anchorage, AK | 49 CFR 172.101 Hazardous Materials Table Column (9B) | To modify the special permit by adding a new description for Flammable liquids, corrosive that have a toxic subsidiary hazard. (mode 4)
15428-M | Space Exploration Technologies Corp., Hawthorne, CA | 49 CFR Part 172 and 173 | To modify the special permit to authorize unlimited transportation when the residue of Dinitrogen tetroxide, 2.3, UN 1067 and Monomethylhydrazine, 6.1, UN 1244 is the only hazardous material contained in the space capsule. (mode 1)
15510-N | TEMSCO Helicopters, Inc., Ketchikan, AK | 49 CFR 172.101 Column (9B); 175.30(a)(1) | To authorize the transportation in commerce of propane in DOT Specification 4B240, 4BA240, 4BW240 cylinders via helicopter utilizing sling loads. (mode 4)
15655-N | Walt Disney Parks and Resorts U.S., Inc., Anaheim, CA | 49 CFR 173.56(b) and 172.320 | To authorize the transportation in commerce of certain waste pyrotechnic material that has not been approved under 49 CFR 173.56(b) by motor vehicle. (mode 1)
15661-N | Pyrotechnique by Grucci (PbG), Brookhaven, NY | 49 CFR, 49 CFR 173.52, 49 CFR 173.50 | To authorize the one-time, one-way transportation in commerce of certain unapproved Division 1.1G fireworks to a storage facility for the purpose of destruction. (mode 1)
DENIED
15514-N | Request by Shesam DBA Wilson Supply Cumberland, MD June 08, 2012. To authorize the transportation in commerce of certain cylinders without pressure relief devices.
15598-N | Request by Lockheed Martin Space Systems Company Denver, CO June 08, 2012. To authorize the transportation in commerce of hazardous materials listed in table 6 in spacecraft as non-specification packaging.

[FR Doc. 2012-17356 Filed 7-17-12; 8:45 am]

BILLING CODE 4909-60-M